DEPARTMENT OF HEALTH AND HUMAN SERVICES

National Institutes of Health

Office of the Director, National Institutes of Health; Notice of Meeting

Pursuant to section 10(d) of the Federal Advisory Committee Act, as amended (5 U.S.C. App.), notice is hereby given of a meeting of the Council of Councils.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended because the premature disclosure of grant applications and the discussions would likely to significantly frustrate implementation of recommendations.

Name of Committee: Council of Councils.

Date: August 15, 2011.

Open: 1 p.m. to 2: p.m.

Agenda: Discussion of NIH Director's Early Independence Awards program and review process. See: http://grants.nih.gov/grants/guide/rfa-files/RFA-RM-10-019.html. Dial-in number: 866-695-1528. Conference code: 6971723704

Place: National Institutes of Health, Building 1, 1 Center Drive, Room 260, Bethesda, MD 20892, (Telephone Conference Call).

Closed: 2 p.m. to 4 p.m.

Agenda: To review and evaluate second-level review of NIH Director's Early Independence Awards grant applications.

Place: National Institutes of Health, Building 1, 1 Center Drive, Room 260, Bethesda, MD 20892, (Telephone Conference Call).

Contact Person: Robin Kawazoe, Executive Secretary, Division of Program Coordination, Planning, and Strategic Initiatives, Office Of The Director, NIH, Building 1, ROOM 260B, Bethesda, MD 20892, KAWAZOER@mail.nih.gov.

Additional information, including the meeting agenda is available on the Council of Council's home page: http://dpcpsi.nih.gov/council/.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: June 21, 2011.
Jennifer S. Spaeth,
Director, Office of Federal Advisory Committee Policy.

[FR Doc. 2011-15998 Filed 6-24-11; 8:45 am]

BILLING CODE 4140-01-P